DEPARTMENT OF COMMERCE

Bureau of Industry and Security

Reopening of Comment Period for Section 232 National Security Investigation of Imports of Vanadium

AGENCY: Bureau of Industry and Security, Office of Technology Evaluation, U.S. Department of Commerce.

ACTION: Notice on reopening of comment period for previously published notice of request for public comments.

SUMMARY: On June 3, 2020, the Bureau of Industry and Security (BIS) published the Notice of Request for Public Comments on Section 232 National Security Investigation of Imports of Vanadium. The June 3 notice specified that the Secretary of Commerce initiated an investigation to determine the effects on the national security of imports of vanadium. This investigation was initiated under section 232 of the Trade Expansion Act of 1962, as amended. The June 3 notice invited interested parties to submit written comments, data, analyses, or other information pertinent to the investigation to the Department of Commerce's Bureau of Industry and Security. The deadline for written comments was July 20, 2020, and the rebuttal comment deadline was August 17, 2020. Today's notice reopens the public comment period with a deadline of October 9, 2020. BIS has posted the initial application for a section 232 investigation into imports of vanadium, titled “Petition for Relief Under Section 232,” (dated November 19, 2019) and supplemental information (dated April 2, 2020), as submitted by the applicant, on http://www.regulations.gov in the interests of transparency and to allow additional public comment. Public versions of the exhibits are available online (see the ADDRESSES section).

DATES: The due date for filing comments is October 9, 2020.

ADDRESSES: Submissions: All written comments on the notice must be addressed to Section 232 Vanadium Investigation and filed through the Federal eRulemaking Portal: http://www.regulations.gov. To submit comments via http://www.regulations.gov, enter docket number BIS-2020-0002 on the home page and click “search.” The site will provide a search results page listing all documents associated with this docket. Find a reference to this notice and click on the link entitled “Comment Now!” (For further information on using http://www.regulations.gov, please consult the resources provided on the website by clicking on “How to Use This Site.”)

Application for investigation: The public versions of the application for a section 232 investigation, the later-submitted supplemental information, and the exhibits, are available online at http://www.regulations.gov under the docket number BIS-2020-0002.

FOR FURTHER INFORMATION CONTACT: Industrial Studies Division, Bureau of Industry and Security, U.S. Department of Commerce, (202) 482-5481, Vanadium232@bis.doc.gov. Unless otherwise protected by law, any information received from the public during the course of this investigation may be made publicly available. For more information about the section 232 program, including the regulations and the text of previous investigations, please see www.bis.doc.gov/232.

SUPPLEMENTARY INFORMATION:

Background

On June 3, 2020, (85 FR 34179), the Bureau of Industry and Security (BIS) published the Notice of Request for Public Comments on Section 232 National Security Investigation of Imports of Vanadium. The June 3 notice specified that on May 28, 2020, the Secretary of Commerce had initiated an investigation to determine the effects on the national security of imports of vanadium. This investigation was initiated under section 232 of the Trade Expansion Act of 1962, as amended (19 U.S.C. 1862). (See the June 3 notice for additional details on the investigation and the request for public comments.)

Reopening of Public Comment Period

The June 3 notice included a comment period deadline of July 20, 2020 and a rebuttal comment period deadline of August 17, 2020. The Department of Commerce has determined that it is warranted to reopen the comment period for fourteen days. While comments may be submitted at any time, today's notice specifies that comments must be received by October 9, 2020 to be considered in the drafting of the final report. Today's notice reopens the comment period for fourteen days to allow for additional time for the public to submit comments on the investigation of imports of vanadium pursuant to BIS posting the November 19, 2019 application for an investigation by U.S. Vanadium LLC and AMG Vanadium LLC and the April 2, 2020 supplemental information on http://www.regulations.gov.

Posting of Application for Section 232 Investigation

BIS has posted the application for an investigation into imports of vanadium under section 232, titled “Petition for Relief Under Section 232”, which was submitted by U.S. Vanadium LLC and AMG Vanadium LLC on November 19, 2019, on http://www.regulations.gov. BIS has also posted the supplemental information to the application, titled “Supplement to Section 232 Petition”, which was submitted by U.S. Vanadium LLC and AMG Vanadium LLC on April 2, 2020, on http://www.regulations.gov. BIS has posted this application for an investigation and supplemental information in the interests of transparency and is allowing for additional public comments related to the application and supplemental information. The public versions of the exhibits are available online, except for those exhibits, which are noted with the bracketed text [CBI] (see the ADDRESSES section), containing confidential business information, which were not susceptible to public summarization.

BIS has confirmed with U.S. Vanadium LLC and AMG Vanadium LLC that all confidential information, including business proprietary information, has been properly redacted (as indicated by the presence of bracketing) from the public versions of the application and supplemental information posted on http://www.regulations.gov. Where text has been omitted from what has been posted the presence of confidential information is indicated by bracketing, with the confidential text omitted.

Matthew S. Borman,
Deputy Assistant Secretary for Export Administration.

[FR Doc. 2020-21243 Filed 9-24-20; 8:45 am]

BILLING CODE 3510-33-P